DEPARTMENT OF ENERGY

Federal Energy Regulatory Commission

[Docket No. RP00-163-002]

Kern River Gas Transmission Company; Notice of Compliance Filing

March 1, 2000.

Take notice that on February 25, 2000, Kern River Gas Transmission Company (Kern River), in compliance with the order issued by the Federal Energy Regulatory Commission (Commission) on February 10, 2000, in Docket Nos. RP00-163-000 and 001, tendered its responses to concerns raised by intervening parties related to its imbalance netting and trading proposal.

Kern River states that it has served a copy of its response upon each person designated on the official service list compiled by the Secretary in this proceeding.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-5445 Filed 3-6-00; 8:45 am]

BILLING CODE 6717-01-M